DEPARTMENT OF ENERGY

Federal Energy Regulatory Commission

Notice of Application Ready for Environmental Analysis and Soliciting Comments, Recommendations, Terms and Conditions, and Prescriptions

July 6, 2006.

Take notice that the following hydroelectric application has been filed with the Commission and is available for public inspection.

a. Type of Application: New Major License.

b. Project No: 11910-002.

c. Date Filed: August 31, 2004.

d. Applicant: Symbiotics, LLC.

e. Name of Project: Applegate Dam Hydroelectric Project.

f. Location: On the Applegate River, near the town of Medford, Jackson County, Oregon. The proposed project would be located at the existing Applegate dam and reservoir, which are owned and operated by the Department of the Army, Corps of Engineers. The proposed project boundary would include approximately 8.3 acres of U.S. lands.

g. Filed Pursuant to: Federal Power Act, 16 U.S.C. 791 (a)-825(r).

h. Applicant Contact: Brent L. Smith, Northwest Power Services, Inc. P.O. Box 535, Rigby, Idaho 83442, (208)745-0834.

i. FERC Contact: Tim Looney, 202-502-6096, timothy.looney@ferc.gov.

j. Deadline for filing comments, recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is now ready for environmental analysis.

l. The Applicant proposes to utilize the existing Applegate Dam, Applegate Reservoir, outlet works, and spillway, owned and operated by the Department of the Army, Corps of Engineers. The Applicant proposes to construct a powerhouse with an installed capacity of 10 megawatts at the area downstream from the dam. The Applicant also proposes to construct a new 15-mile-long, 69-kilovolt overhead power transmission line to connect the powerhouse with a substation located at Ruch, Oregon. The average annual generation is estimated to be 44,300,000 kilowatt-hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. Public notice of the filing of the initial development application, which has already been given, established the due date for filing competing applications or notices of intent. Under the Commission's regulations, any competing development application must be filed in response to and in compliance with public notice of the initial development application. No competing applications or notices of intent may be filed in response to this notice.

o. Procedural schedule and final amendments: Revisions to the schedule will be made as appropriate. The schedule given in the April 10, 2006 Notice of Application Accepted for Filing is revised as follows:

Notice that application is ready for environmental analysis (EA): July 2006.

Notice of the availability of the EA: January 2007.

Ready for Commission's decision on the application: April 2007.

Magalie R. Salas,
Secretary.

[FR Doc. E6-11169 Filed 7-13-06; 8:45 am]

BILLING CODE 6717-01-P